DEPARTMENT OF HOMELAND SECURITY

Coast Guard

33 CFR Part 165

[Docket No. USCG-2025-0768]

Security Zone; Waters of the Coast Guard East District (Formerly the Fifth Coast Guard District), Delaware River, Philadelphia, PA

AGENCY: Coast Guard, DHS.

ACTION: Notification of enforcement of regulation.

SUMMARY: The Coast Guard will enforce a security zone to escort a vessel on the Delaware River, from Philadelphia, PA to the Delaware Bay. During the enforcement period, the operator of any vessel will be prohibited from entering the security zone unless authorized by the Captain of the Port, Sector Delaware Bay or a designated representative.

DATES: The regulations in 33 CFR 165.518 will be subject to enforcement on August 17, 2025.

FOR FURTHER INFORMATION CONTACT: If you have questions about this notification of enforcement, call or email Petty Officer Dominick Dobridge, U.S. Coast Guard, Sector Delaware Bay, Waterways Management Division, telephone: 206-815-6688, Email: SecDelBayWWM@uscg.mil.

SUPPLEMENTARY INFORMATION: The Coast Guard will enforce a security zone in 33 CFR 165.518 for the escort of a vessel on the Delaware River, from Philadelphia, PA to the Delaware Bay on August 17, 2025. Our regulation, “Security Zone; Waters of the Coast Guard East District (formerly Fifth Coast Guard District)” identifies the regulated area as a 500-yard radius around the escorted vessel, as defined at 33 CFR 165.518(a). During the enforcement period the operator of any vessel will be prohibited from entering the security zone unless authorized by the Captain of the Port, Sector Delaware Bay or a designated representative, as defined at 33 CFR 165.518(a). Mariners can contact the on-scene Coast Guard vessels via VHF channel 16 (156.800 MHz), VHF channel 13 (156.650 MHz) or via telephone at 215-271-4807.

In addition to this notification of enforcement in the Federal Register, the Coast Guard plans to provide notification of this enforcement period via broadcast notice to mariners, local notice to mariners, and on-scene patrol.

Dated: August 7, 2025.
Kate F. Higgins-Bloom,
Captain, U.S. Coast Guard, Captain of the Port, Sector Delaware Bay.

[FR Doc. 2025-15414 Filed 8-12-25; 8:45 am]

BILLING CODE 9110-04-P